SOCIAL SECURITY ADMINISTRATION

Agency Information Collection Activities: Comment Request

The Social Security Administration (SSA) publishes a list of information collection packages that will require clearance by the Office of Management and Budget (OMB) in compliance with Public Law 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer and to the OMB Desk Officer at the following addresses:

(OMB) Office of Management and Budget, OIRA, Attn: Desk Officer for SSA, New Executive Office Building, Room 10230, 725 17th St., NW., Washington, D.C. 20503.

(SSA) Social Security Administration, DCFAM, Attn: Frederick W. Brickenkamp, 1-A-21 Operations Bldg., 6401 Security Blvd., Baltimore, MD 21235.

The information collections listed below have been submitted to OMB for clearance. Your comments on the information collections would be most useful if received by OMB and SSA within 30 days from the date of this publication. You can obtain a copy of the OMB clearance package by calling the SSA Reports Clearance Officer on (410) 965-4145, or by writing to him at the address listed above.

1. Internet Retirement Insurance Benefit (IRIB) Application—0960-NEW. SSA plans to offer its customers a new Internet service that allows individuals to submit their request for Social Security benefits over the Internet. The information collected will be used by SSA to determine entitlement to retirement insurance benefits. Currently, applicants for retirement insurance benefits complete an SSA-1 by telephone or in person with the assistance of an SSA employee. The IRIB application will enable individuals to complete the application on their own electronically over the Internet.

Prior to national implementation later this year, SSA plans to pilot the IRIB Internet application process between July 2000 and September 2000 to gather data on:

• the volume of IRIB usage,

• the time required for members of the public to complete the IRIB screens,

• user satisfaction with the process, and the impact of the IRIB process on payment accuracy.

| Pilot | National implementation
Number of Respondents | 560 | 139,308
Frequency of Response | 1 | 1
Average Burden Per Response (minutes) | 20 | 20
Estimated Annual Burden (hours) | 187 | 46,436

2. Request for Internet Service—Authentication (RISA)—0960-0596. The information collected on the electronic request for Internet Service—Authentication is used by the Social Security Administration to identify its customers who are requesting Privacy Act protected information. The respondents are members of the public who request services from SSA through the Internet.

Number of Respondents: 21,000.

Frequency of Response: 1.

Average Burden Per Response: 1.5 minutes.

Estimated Annual Burden: 525 hours.

Dated: April 28, 2000.
Frederick W. Brickenkamp,
Reports Clearance Officer.

[FR Doc. 00-11476 Filed 5-8-00; 8:45 am]

BILLING CODE 4191-02-P